COMMITTEE FOR PURCHASE FROM PEOPLE WHO ARE BLIND OR SEVERELY DISABLED

Correction

In the document appearing on page 22000, FR Doc. 04-9312, in the issue of April 23, 2004, in the second column, the Committee published an effective date of November 23, 2003 for addition of the Food Service Attendant, Elmendorf Air Force Base, Alaska to the Procurement List. The correct effective date should be May 23, 2004.

G. John Heyer,
General Counsel.

[FR Doc. 04-9838 Filed 4-29-04; 8:45 am]

BILLING CODE 6353-01-P